DEPARTMENT OF COMMERCE

National Oceanic and Atmospheric Administration

RIN 0648-XG496

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) in Charleston, SC. See SUPPLEMENTARY INFORMATION.

DATES: The SSC will meet 1 p.m.-5:30 p.m., Monday, October 15, 2018; 8:30 a.m.-5:30 p.m., Tuesday, October 16, 2018; and 8:30 a.m.-12 p.m., Wednesday, October 17, 2018.

ADDRESSES:

Meeting address: The meeting will be held at the Town & Country Inn and Suites, 2008 Savannah Hwy., Charleston, SC 29407; phone: (800) 334-6660 or (843) 571-1000; fax: (843) 766-9444.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The following agenda items will be addressed by the SSC during the meeting:

1. Updates on Southeast Data, Assessment and Review (SEDAR) projects; approve the terms of reference, schedule, and identify participants for the Gulf and South Atlantic Scamp Research Track; and approve the terms of reference for the South Atlantic golden Tilefish and Snowy Grouper assessments.

2. Review the findings of a Florida Fish and Wildlife Conservation Commission selectivity study for Red Snapper, determine if they are the best scientific information available, and provide recommendations for including these findings into the Interim Analysis for Red Snapper.

3. Update on ongoing research from NOAA Fisheries' Southeast Fisheries Science Center.

4. Update on the Southeast Reef Fish Survey results from the 2018 sampling year.

5. Review revised Marine Recreational Information Program (MRIP) recreational catch estimates for Council managed stocks and consider approaches for revising Acceptable Biological Catch (ABC) recommendations for unassessed stocks.

6. Review the revised SEDAR assessments for Vermilion Snapper, Black Sea Bass, Blueline Tilefish and Red Grouper using the revised MRIP catch data; apply the ABC Control Rule and provide fishing level recommendations; and discuss uncertainties and changes due to revised MRIP numbers.

7. Review the ABC Control Rule Amendment and analyses, including example application of risk tolerance levels.

8. Review the methodology for a new bag and size limit analysis and the findings of the workgroup; discuss uncertainties and determine if this analysis is best scientific information available and useful for management.

9. Consider forming a workgroup for the SSC to provide input on the South Atlantic Ecosystem Model.

10. Receive updates and progress reports on ongoing Council amendments and activities.

The meeting is open to the public and will also be available via webinar as it occurs. Webinar registration is required. Information regarding webinar registration will be posted to the Council's website at: http://safmc.net/safmc-meetings/scientific-and-statistical-committee-meetings/ as it becomes available. The meeting agenda, briefing book materials, and online comment form will be posted to the Council's website two weeks prior to the meeting. Written comment on SSC agenda topics is to be distributed to the Committee through the Council office, similar to all other briefing materials. Written comment to be considered by the SSC shall be provided to the Council office no later than one week prior to an SSC meeting. For this meeting, the deadline for submission of written comment is 12 p.m., Monday, October 8, 2018.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations, and SSC discussion. Those interested in providing comment should indicate such in the manner requested by the Chair, who will then recognize individuals to provide comment. All comments are part of the record of the meeting.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: September 25, 2018.
Tracey L. Thompson,
Acting Deputy Director, Office of Sustainable Fisheries, National Marine Fisheries Service.

[FR Doc. 2018-21178 Filed 9-27-18; 8:45 am]

BILLING CODE 3510-22-P